SMALL BUSINESS ADMINISTRATION

Advisory Committee on Veterans Business Affairs; Committee Member Nomination Solicitation

AGENCY: U.S. Small Business Administration (SBA).

ACTION: Solicit nominations for veteran small business owners and veteran service organization representatives to serve on the Advisory Committee on Veterans Business Affairs (ACVBA).

SUMMARY: The SBA Office of Veterans Business Development (OVBD) is issuing this notice to solicit nominations of qualified owners, operators, and officers of veteran-owned small business and veteran service organizations to be considered for appointment by the SBA Administrator as a member of the Advisory Committee on Veterans Business Affairs. The Committee serves as an independent source of advice and policy recommendations to the Administrator of the U.S. Small Business Administration (SBA), the Associate Administrator for Veterans Business Development of SBA, the Congress, the President, and other U.S. policymakers on issues of interest to small businesses owned and operated by veterans. Nominations of qualified candidates are being sought to fill vacancies on the ACVBA. ACVBA members are appointed by and serve at the pleasure of the SBA Administrator for terms of no longer than three years. ACVBA members serve without compensation but will be reimbursed for authorized travel-related expenses at per diem rates established by GSA when asked to perform official duties as an ACVBA member.

DATES: Nominations for membership on the ACVBA will be accepted on a rolling basis.

ADDRESSES: All nominations should be emailed to veteransbusiness@sba.gov with the subject line: ACVBA Nomination.

FOR FURTHER INFORMATION CONTACT: Ms. Cheryl Simms, Office of Veterans Business Development, U.S. Small Business Administration, 409 3rd Street SW, Washington, DC 20416, Telephone: (202) 619-1697; email: cheryl.simms@sba.gov. A copy of the ACVBA Charter may be obtained by contacting Ms. Simms. For more information on OVBD, please visit our website, www.sba.gov/ovbd.

SUPPLEMENTARY INFORMATION: The Veterans Entrepreneurship and Small Business Development Act of 1999—Public Law 106-50—established the ACVBA to serve as an independent source of advice and policy recommendations on veteran owned small business opportunities. Through an annual report, the ACVBA reports to the SBA Administrator, SBA's Associate Administrator for Veterans Business Development, the Congress, the President, and other U.S. policy makers. The ACVBA is comprised of 15 members—eight members represent veteran owned small business and seven members represent veteran service or military organizations.

On Aug. 13, 2014, the Office of Management and Budget (OMB) published in the Federal Register revised guidance on individuals who are not eligible to serve on federal advisory committees. In accordance with OMB guidance, the President directed agencies and departments in the Executive Branch not to appoint or re-appoint federally registered lobbyists to advisory committees and other boards and commissions. Learn more about the ACVBA by reviewing the ACVBA charter at Advisory Committee on Veterans Business Affairs.

Requirements for Nomination Submission: Completed SBA Form 898: Interested applicants must submit a completed SBA Form 898. To download a copy of the form, please visit https://www.sba.gov/document/sba-form-898-advisory-committee-membership-nominee-information-form.

Please submit a resume that includes the following: (1) The nominee's contact information (including name, mailing address, telephone numbers, and email address) and a chronological summary of the nominee's experience and qualifications, and (2) a current biography.

Authority: This notice was prepared in accordance with the Veterans Entrepreneurship and Small Business Development Act of 1999, Public Law 106-50, Sec. 203. Advisory Committee on Veterans Business Affairs.

Dated: April 8, 2022.
Andrienne Johnson,
SBA Committee Management Officer.

[FR Doc. 2022-08083 Filed 4-14-22; 8:45 am]

BILLING CODE P